DEPARTMENT OF LABOR

Employment and Training Administration

[NAFTA-4241]

Tower Automotive, Kalamazoo, Michigan; Affirmative Finding Regarding Qualification as a Secondarily Affected Worker Group Pursuant to the Statement of Administrative Action Accompanying the North American Free Trade Agreement (NAFTA) Implementation Act

The Department of Labor herein presents the results of an investigation regarding qualification as a secondarily-impacted firm, pursuant to the Statement of Administrative Action accompany the North American Free Trade Agreement (NAFTA) Implementation Act.

In order for an affirmative finding to be made, the following requirements must be met:

(1) The subject firm must be a supplier—such as of components, unfinished or semifinished goods—to a firm that is directly affected by imports from Mexico or Canada of articles like or directly competitive with articles produced by that firm or shifts in production of such articles to those countries; or

(2) The subject firm must assemble or finish products made by a directly-impacted firm; and

(3) The loss of business with the directly-affected firm must have contributed importantly to worker separations at the subject firm.

The investigation revealed that requirements (1) and (3) are met.

The workers of Tower Automotive, Kalamazoo, Michigan, produced metal stampings.

Evidence revealed that the major customer for which the subject firm supplies stampings shifted production to Mexico to serve that market.

Based on this evidence, I determine that workers of Tower Automotive, Kalamazoo, Michigan, qualify as secondarily affected pursuant to the Statement of Administrative Action accompanying the North American Free Trade Agreement Implementation Act.

For further information on assistance under Title I of the Workforce Investment Act (WIA) which may be available to workers included under this determination, contact: Mr. John S. Palmer, Jr., Deputy Director, Workforce Programs, Michigan Department of Career Development, 201 N. Washington Square, Victor Office Center, 7th Floor, Lansing, Michigan 48913.

Signed in Washington, D.C. this 8th day of August 2001.
Edward A. Tomchick,
Certifying Officer, Division of Trade Adjustment Assistance.

[FR Doc. 01-21849 Filed 8-28-01; 8:45 am]

BILLING CODE 4510-30-M